DEPARTMENT OF TRANSPORTATION

Federal Aviation Administration

Notice of Intent To Release Certain Properties From All Terms, Conditions, Reservations and Restrictions of a Grant Agreement Between Palm Beach County and the Federal Aviation Administration for the Palm Beach International Airport, West Palm Beach, FL

AGENCY: Federal Aviation Administration (FAA), DOT.

ACTION: Request for public comment.

SUMMARY: The FAA hereby provides notice of intent to release certain airport properties (approximately 8.5 acres) at the West Palm Beach International Airport, West Palm Beach, FL from the conditions, reservations, and restrictions as contained in a grant agreement between the FAA and Palm Beach County, dated September 29, 1993, and September 27, 1994. The release of property will allow Palm Beach County to dispose of the property for other than aeronautical purposes. The property is located on the North side of Belvedere Road eastward from the South end of Country Club Drive. The parcel is currently designated as non-aeronautical, revenue generation property. The property will be disposed of for construction of a commercial shopping center.

The fair market value of the property has been determined by appraisal to be $1,670,000. The airport will receive fair market value for the property, which will be subsequently reinvested in another eligible airport improvement project.

Documents reflecting the Sponsor's request are available, by appointment only, for inspection at the Airport Manager's office and the FAA Airports District Office.

SUPPLEMENTARY INFORMATION: Section 125 of the The Wendell H. Ford Aviation Investment and Reform Act for the 21st Century (AIR-21) requires the FAA to provide an opportunity for public notice and comment prior to the “waiver” or “modification” of a sponsor's Federal obligation to use certain airport land for non-aeronautical purposes.

DATES: May 19, 2003.

ADDRESSES: Documents are available for review at the Airport Manager's office, Palm Beach County Department of Airports, 846 Palm Beach International Airport, West Palm Beach, FL 33406 and the FAA Airports District Office, 5950 Hazeltine National Drive, Suite 400, Orlando, FL 32822. Written comments on the Sponsor's request must be delivered or mailed to: Matthew J. Thys, Program Manager, Orlando Airports District Office, 5950 Hazeltine National Drive, Suite 400, Orlando, FL 32822-5024.

FOR FURTHER INFORMATION CONTACT: Matthew J. Thys, Program Manager, Orlando Airports District Office, 5950 Hazeltine National Drive, Suite 400, Orlando, FL 32822-5024.

W. Dean Stringer,
Manager, Orlando Airports District Office, Southern Region.

[FR Doc. 03-9510 Filed 4-16-03; 8:45 am]

BILLING CODE 4910-13-M